DEPARTMENT OF TRANSPORTATION

Federal Aviation Administration

14 CFR Part 39

[Docket No. FAA-2018-0517; Product Identifier 2017-SW-098-AD; Amendment 39-19443; AD 2018-20-09]

RIN 2120-AA64

Airworthiness Directives; Airbus Helicopters Deutschland GmbH Helicopters

AGENCY: Federal Aviation Administration (FAA), DOT.

ACTION: Final rule.

SUMMARY: We are adopting a new airworthiness directive (AD) for Airbus Helicopters Deutschland GmbH (Airbus Helicopters) Model MBB-BK 117 C-2 and MBB-BK 117 D-2 helicopters. This AD requires altering and re-identifying the overhead panel shock mount assembly (shock mount). This AD was prompted by the manufacturer's stress recalculations. The actions of this AD are intended to correct an unsafe condition on these products.

DATES: This AD is effective November 7, 2018.

The Director of the Federal Register approved the incorporation by reference of certain documents listed in this AD as of November 7, 2018.

ADDRESSES: For service information identified in this final rule, contact Airbus Helicopters, 2701 N Forum Drive, Grand Prairie, TX 75052; telephone (972) 641-0000 or (800) 232-0323; fax (972) 641-3775; or at http://www.helicopters.airbus.com/website/en/ref/Technical-Support_73.html. You may review the referenced service information at the FAA, Office of the Regional Counsel, Southwest Region, 10101 Hillwood Pkwy., Room 6N-321, Fort Worth, TX 76177. It is also available on the internet at http://www.regulations.gov by searching for and locating Docket No. FAA-2018-0517.

Examining the AD Docket

You may examine the AD docket on the internet at http://www.regulations.gov by searching for and locating Docket No. FAA-2018-0517; or in person at Docket Operations between 9 a.m. and 5 p.m., Monday through Friday, except Federal holidays. The AD docket contains this AD, the European Aviation Safety Agency (EASA) AD, any incorporated-by-reference service information, the economic evaluation, any comments received, and other information. The street address for Docket Operations (phone: 800-647-5527) is U.S. Department of Transportation, Docket Operations, M-30, West Building Ground Floor, Room W12-140, 1200 New Jersey Avenue SE, Washington, DC 20590.

FOR FURTHER INFORMATION CONTACT: Matt Fuller, Senior Aviation Safety Engineer, Safety Management Section, Rotorcraft Standards Branch, FAA, 10101 Hillwood Pkwy., Fort Worth, TX 76177; telephone (817) 222-5110; email matthew.fuller@faa.gov.

SUPPLEMENTARY INFORMATION:

Discussion

On June 7, 2018, at 83 FR 26387, the Federal Register published our notice of proposed rulemaking (NPRM), which proposed to amend 14 CFR part 39 by adding an AD that would apply to Airbus Helicopters Model MBB-BK 117 C-2 and Model MBB-BK 117 D-2 helicopters with an overhead panel shock mount assembly part number (P/N) B246M2035102 or P/N B246M2036101 installed. The NPRM proposed to require installing a retaining plate on the shock mount and re-identifying the shock mount by changing the last three digits of the P/N to -966. The NPRM also proposed prohibiting the installation of shock mount P/N B246M2035102 and P/N B246M2036101 on any helicopter. The proposed requirements were intended to prevent failure of a shock mount, which could result in detachment of the overhead panel and injury to occupants during an emergency landing.

The NPRM was prompted by AD No. 2017-0026, dated February 14, 2017, issued by EASA, which is the Technical Agent for the Member States of the European Union, to correct an unsafe condition for Airbus Helicopters Model MBB-BK 117 C-2, MBB-BK117 C-2e, MBB-BK 117 D-2, and MBB-BK117 D-2m helicopters. EASA advises that a recent stress calculation identified that the shock mount may not withstand certification crash loads. EASA states that this condition, if not corrected, could lead to the overhead panel disconnecting during an emergency landing and injuring occupants. Accordingly, the EASA AD requires modifying and re-identifying the shock mounts.

Comments

We gave the public the opportunity to participate in developing this AD, but we did not receive any comments on the NPRM.

FAA's Determination

These helicopters have been approved by the aviation authority of Germany and are approved for operation in the United States. Pursuant to our bilateral agreement with Germany, EASA, its technical representative, has notified us of the unsafe condition described in the EASA AD. We are issuing this AD because we evaluated all information provided by EASA and determined the unsafe condition exists and is likely to exist or develop on other helicopters of these same type designs and that air safety and the public interest require adopting the AD requirements as proposed.

Differences Between This AD and the EASA AD

The EASA AD applies to Model MBB-BK117 D-2m helicopters, whereas this AD does not since the Model MBB-BK117 D-2m is not FAA type-certificated. This AD also does not include the Model MBB-BK117 C-2(e) in the applicability section because it is a marketing designation and not an FAA type-certificated model. However, this AD applies to those helicopters, as they are Model MBB-BK117 C-2 helicopters. The EASA AD specifies particular helicopter serial numbers (S/Ns) that may not be required to complete some of the requirements of the AD since the specified S/Ns were manufactured with shock mounts not affected by the unsafe condition. This AD does not specify particular S/Ns.

Related Service Information Under 1 CFR Part 51

Airbus Helicopters has issued Alert Service Bulletin (ASB) MBB-BK117 C-2-24A-015 for Model MBB-BK117 C-2 helicopters and ASB MBB-BK117 D-2-24A-004 for Model MBB-BK117 D-2 helicopters, both Revision 0 and dated September 14, 2016. This service information contains procedures for altering the shock mounts by installing retaining plates and re-identifying the shock mounts by changing the last three digits of the P/N to -966.

This service information is reasonably available because the interested parties have access to it through their normal course of business or by the means identified in the ADDRESSES section.

Costs of Compliance

We estimate that this AD affects 144 helicopters of U.S. Registry. We estimate that operators may incur the following costs in order to comply with this AD. Labor costs are estimated at $85 per work-hour.

Installing retaining plates and re-identifying the four shock mounts takes about 3 work-hours and parts cost about $184 for a total estimated cost of $439 per helicopter and $63,216 for the U.S. fleet.

According to Airbus Helicopter's service information, some of the costs of this AD may be covered under warranty, thereby reducing the cost impact on affected individuals. We do not control warranty coverage by Airbus Helicopters. Accordingly, we have included all costs in our cost estimate.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on helicopters identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979);

(3) Will not affect intrastate aviation in Alaska to the extent that it justifies making a regulatory distinction; and

(4) Will not have a significant economic impact, positive or negative, on a substantial number of small entities under the criteria of the Regulatory Flexibility Act.

We prepared an economic evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2018-20-09 Airbus Helicopters Deutschland GmbH: Amendment 39-19443; Docket No. FAA-2018-0517; Product Identifier 2017-SW-098-AD.

(a) Applicability

This AD applies to Model MBB-BK 117 C-2 and Model MBB-BK 117 D-2 helicopters, certificated in any category, with an overhead panel shock mount assembly part number (P/N) B246M2035102 or P/N B246M2036101 installed.

Note 1 to paragraph (a) of this AD: Helicopters with an MBB-BK117 C-2e designation are Model MBB-BK117 C-2 helicopters.

(b) Unsafe Condition

This AD defines the unsafe condition as failure of an overhead panel shock mount assembly (shock mount). This condition could result in detachment of the overhead panel and injury to occupants during an emergency landing.

(c) Effective Date

This AD becomes effective November 7, 2018.

(d) Compliance

You are responsible for performing each action required by this AD within the specified compliance time unless it has already been accomplished prior to that time.

(e) Required Actions

(1) Within 300 hours time-in-service:

(i) Install a retaining plate on each shock mount by following the Accomplishment Instructions, paragraphs 3.B.2.1. through 3.B.2.4, of Airbus Helicopters Alert Service Bulletin (ASB) MBB-BK117 C-2-24A-015, Revision 0, dated September 14, 2016 (ASB MBB-BK117 C-2-24A-015), or ASB MBB-BK117 D-2-24A-004, Revision 0, dated September 14, 2016 (ASB MBB-BK117 D-2-24A-004), as applicable to your model helicopter.

(ii) Re-identify shock mount P/N B246M2035102 as P/N B246M2035966 and shock mount P/N B246M2036101 as P/N B246M2036966 using permanent ink. When the ink is dry, apply varnish over the P/N.

(iii) Re-install each shock mount.

(2) After the effective date of this AD, do not install a shock mount P/N B246M2035102 or P/N B246M2036101 on any helicopter.

(f) Alternative Methods of Compliance (AMOCs)

(1) The Manager, Safety Management Section, Rotorcraft Standards Branch, FAA, may approve AMOCs for this AD. Send your proposal to: Matt Fuller, Senior Aviation Safety Engineer, Safety Management Section, Rotorcraft Standards Branch, FAA, 10101 Hillwood Pkwy., Fort Worth, TX 76177; telephone (817) 222-5110; email 9-ASW-FTW-AMOC-Requests@faa.gov.

(2) For operations conducted under a 14 CFR part 119 operating certificate or under 14 CFR part 91, subpart K, we suggest that you notify your principal inspector, or lacking a principal inspector, the manager of the local flight standards district office or certificate holding district office, before operating any aircraft complying with this AD through an AMOC.

(g) Additional Information

The subject of this AD is addressed in European Aviation Safety Agency (EASA) AD No. 2017-0026, dated February 14, 2017. You may view the EASA AD on the internet at http://www.regulations.gov in Docket No. FAA-2018-0517.

(h) Subject

Joint Aircraft Service Component (JASC) Code: 2400, Electrical Power System.

(i) Material Incorporated by Reference

(1) The Director of the Federal Register approved the incorporation by reference of the service information listed in this paragraph under 5 U.S.C. 552(a) and 1 CFR part 51.

(2) You must use this service information as applicable to do the actions required by this AD, unless the AD specifies otherwise.

(i) Airbus Helicopters Alert Service Bulletin (ASB) MBB-BK117 C-2-24A-015, Revision 0, dated September 14, 2016.

(ii) Airbus Helicopters ASB MBB-BK117 D-2-24A-004, Revision 0, dated September 14, 2016.

(3) For Airbus Helicopters service information identified in this AD, contact Airbus Helicopters, 2701 N Forum Drive, Grand Prairie, TX 75052; telephone (972) 641-0000 or (800) 232-0323; fax (972) 641-3775; or at http://www.helicopters.airbus.com/website/en/ref/Technical-Support_73.html.

(4) You may view this service information at FAA, Office of the Regional Counsel, Southwest Region, 10101 Hillwood Pkwy., Room 6N-321, Fort Worth, TX 76177. For information on the availability of this material at the FAA, call (817) 222-5110.

(5) You may view this service information that is incorporated by reference at the National Archives and Records Administration (NARA). For information on the availability of this material at NARA, call (202) 741-6030, or go to: http://www.archives.gov/federal-register/cfr/ibr-locations.html.

Issued in Fort Worth, Texas, on September 24, 2018.
Lance T. Gant,
Director, Compliance & Airworthiness Division, Aircraft Certification Service.

[FR Doc. 2018-21342 Filed 10-2-18; 8:45 am]

BILLING CODE 4910-13-P